DEPARTMENT OF ENERGY

Federal Energy Regulatory Commission

[Docket No. RP04-215-000]

Tennessee Gas Pipeline Company, Complainant, v. Columbia Gulf Transmission Company, Respondent; Notice of Complaint

March 15, 2004.

Take notice that on March 12, 2004, Tennessee Gas Pipeline Company (Tennessee), pursuant to sections 4(a), 5(a), and 16 of the Natural Gas Act (NGA), and rule 206 of the Federal Energy Regulatory Commission's rules of practice and procedure, filed a Complaint and Request for Processing Under Fast Track Procedures against Columbia Gulf Transmission Company (Columbia Gulf). Tennessee alleges that Columbia Gulf has exercised its control over the Western Shore line of the Blue Water Project (BWP) and denied Tennessee a new interconnection to the BWP at Egan, Louisiana, in violation of the Commission's interconnect policy, open access principles, and the NGA. Tennessee requests the Commission to order Columbia Gulf to immediately allow the installation of the new Egan interconnection and to fashion such other and further relief as the Commission finds necessary and proper to remedy Columbia Gulf's unlawfully anti-competitive conduct and practices.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: April 5, 2004.

Magalie R. Salas,
Secretary.

[FR Doc. E4-947 Filed 4-27-04; 8:45 am]

BILLING CODE 6717-01-P